DEPARTMENT OF STATE

[Public Notice: 9702]

Privacy Act; System of Records: Overseas Citizens Services Records and Other Overseas Records, State-05

SUMMARY: Notice is hereby given that the Department of State proposes to consolidate two existing systems of records, Overseas Citizens Services Records, State-05 and Overseas Records, State-25, pursuant to the provisions of the Privacy Act of 1974, as amended (5 U.S.C. 552a) and Office of Management and Budget Circular No. A-130, Appendix I. The consolidated system will be titled, Overseas Citizens Services Records and Other Overseas Records, State-05.

DATES: This system of records will be effective on October 18, 2016, unless we receive comments that will result in a contrary determination.

ADDRESSES: Any persons interested in commenting on the amended system of records may do so by writing to the Director; Office of Information Programs and Services, A/GIS/IPS; Department of State, SA-2; 515 22nd Street NW., Washington, DC 20522-8100.

FOR FURTHER INFORMATION CONTACT: William Fischer, Acting Director; Office of Information Programs and Services, A/GIS/IPS; Department of State, SA-2; 515 22nd Street NW., Washington, DC 20522-8100, or at Privacy@state.gov.

SUPPLEMENTARY INFORMATION: The Department of State proposes that the system name be changed to “Overseas Citizens Services Records and Other Overseas Records”. In accordance with the Privacy Act of 1974, the Department of State proposes to consolidate two record systems: Overseas Citizens Services Records, State-05 (previously published at 73 FR 24342) and Overseas Records, State-25 (previously published at 42 FR 49711). The primary purpose of this system of records is the adjudication of claims relating to acquisition or loss of U.S. citizenship; the protection and assistance of individuals abroad, including death cases, loan and destitution cases, welfare and whereabouts cases, prisoner (including prisoner transfer) cases; arrest cases; assistance to minors, including children who may be victims of abuse, neglect, or who are abandoned or runaways; assistance to individuals involved in child support enforcement proceedings; persons collecting federal benefits overseas; and the resolution of property, estate, and benefits claims arising under the pertinent statutes; assistance to individuals involved in international adoption cases and in possible or actual international child custody disputes and/or international parental child abduction cases, including the fulfillment of the Department's obligations and duties as the United States Central Authority under the Hague Adoption and Abduction Conventions and related authorities; oversight of accredited and approved adoption service providers and the designated accrediting entities of adoption service providers. The system will include modifications and updates to all sections, including a new exemption under (k)(4).

The Department's report was filed with the Office of Management and Budget. The amended system description, “Overseas Citizens Services Records and Other Overseas Records, State-05,” will read as set forth below.

Joyce A. Barr,
Assistant Secretary for Administration, U.S. Department of State.

STATE-05

SYSTEM NAME:

Overseas Citizens Services Records and Other Overseas Records.

SECURITY CLASSIFICATION:

Unclassified and Classified.

SYSTEM LOCATION:

Department of State, Bureau of Consular Affairs, Overseas Citizens Services, SA-17, 10th Floor, Washington, DC 20522-1710 and overseas at U.S. embassies, U.S. consulates general, and U.S. consulates. (A list of overseas posts is available from the Bureau of Consular Affairs, SA-17, Department of State, Washington, DC 20522-1712.)

CATEGORIES OF INDIVIDUALS COVERED BY THE SYSTEM:

Individuals assisted by or who otherwise interact with the Office of Overseas Citizens Services or by consular officers overseas who:

(a) Seek to establish claims to U.S. citizenship or inquire concerning possible loss of U.S. citizenship;

(b) Apply for U.S. passports in the United States and abroad or Consular Reports of Birth or Death of a U.S. Citizen Abroad;

(c) Register as U.S. citizens living, studying, working, or traveling abroad;

(d) Seek to receive and/or receive information or assistance regarding travel abroad;

(e) Seek assistance from embassies or consulates overseas or from Overseas Citizens Services;

(f) Initiate requests relating to another U.S. citizen's welfare and whereabouts or are themselves the subjects of such requests;

(g) Are reported as or otherwise believed to be missing or held hostage overseas;

(h) Are or may be a victim of a crime abroad;

(i) Are involved in a case of child welfare abroad, including children who may be victims of abuse, neglect, or who are abandoned or runaways;

(j) Are involved in a child support enforcement proceeding;

(k) Seek to take and/or take temporary refuge in a U.S. embassy or consulate;

(l) Seek to be and/or are evacuated to the United States or a third country as a result of a civil disorder, natural disaster, or other emergency overseas;

(m) Seek to receive and/or receive assistance, including financial assistance, for repatriation;

(n) Seek to receive and/or receive emergency medical assistance;

(o) Are detained, arrested, or incarcerated overseas;

(p) Seek to receive and/or receive notarial or authentication services or judicial assistance;

(q) Die overseas or are involved in the disposition of a decedent's personal estate;

(r) Have or assert an interest in property (real or personal) abroad;

(s) Are living overseas and claim or receive federal benefits;

(t) Have sought or received benefits by virtue of having been held hostage overseas or by virtue of their relationship with a person held hostage overseas;

(u) Vote in U.S. federal and/or state elections while overseas;

(v) Register with the U.S. Selective Service System while living overseas;

(w) Are seamen inquiring about consular services;

(x) Seek to receive and/or receive information or assistance regarding the Children's Passport Issuance Alert Program;

(y) Are involved in a possible or actual international child custody dispute and/or international parental child abduction case (covered individuals may include parents and/or guardians, child(ren), and/or any other parties to the case or dispute), including but not limited to a Hague Abduction Convention proceeding for return of or access to a child;

(z) Seek to adopt and/or adopt a child from a foreign country;

(aa) Participate in the intercountry adoption process;

(bb) Are children who are eligible for intercountry adoption and/or are adopted, and either immigrate to or emigrate from the United States, whether or not such adoption is covered by the Hague Convention on Protection of Children and Co-operation in Respect of Intercountry Adoption, Treaty Doc. 105-51, signed May 29, 1993 (Hague Intercountry Adoption Convention) and its implementing legislation (Intercountry Adoption Act of 2000 (IAA), (42 U.S.C. 14901 et seq.)) and regulations;

(cc) Seek to provide, have provided, and/or do provide intercountry adoption services, in connection with an adoption case whether or not such case is covered by the Hague Intercountry Adoption Convention and the IAA; and

(dd) Contribute to, or are a subject of, a complaint in the Complaint Registry created pursuant to 22 CFR 96.68 et seq.

Records may also pertain to individuals who are otherwise involved in the discussion, establishment, execution, or definition of United States foreign policy.

CATEGORIES OF RECORDS IN THE SYSTEM:

Emergency medical and dietary loan applications; repatriation loan applications; applications for benefits for hostages and their families; seamen services records; welfare and whereabouts records; records related to missing persons and hostage cases; Reports of Presumptive Death Abroad; records of U.S. citizens who register as visiting or residing overeas; records related to federal benefits and property claims; records related to arrest cases, death and estate cases, evacuation cases, prisoner transfer cases, refuge cases, victims of crime cases, child abuse and neglect cases, abandoned children and runaway cases, and exit ban cases; records related to marriage; records related to publically available attorney and medical professional lists; records related to judicial assistance cases; records related to international adoption cases (including those covered under the Hague Adoption Convention and the Intercountry Adoption Act of 2000); records related to possible or actual international child custody disputes and/or international parental child abduction cases, including but not limited to Hague Abduction Convention proceedings for return of or access to a child; records related to minors entered into the Children's Passport Issuance Alert Program. OCS records may also include completed “Local American Citizens Skills/Resources Survey” forms; registration cards; interview worksheets; case notes; fingerprint cards; documents of identity; passenger manifests; and various related forms not otherwise stated. These records may further include communications to and from: U.S. embassies, U.S. consulates, and consular agencies; federal, state, and local government agencies; members of Congress; officials of foreign governments; U.S. and foreign courts; U.S. and foreign nongovernmental organizations, including disaster or emergency relief organizations such as the International Red Cross, Red Crescent and others; the subject(s) of the records, their relatives, and other interested parties; records involving other legal matters; and other administrative records. In addition, the system may also contain applications for passports and registration as U.S. citizens; Consular Reports of Birth Abroad; Certificates of Loss of Nationality of the United States; and Reports of Death Abroad—these records are maintained, stored, subject to and preserved as Passport Records, State-26.

AUTHORITY FOR MAINTENANCE OF THE SYSTEM:

(a) 8 U.S.C. 1104 (Powers and Duties of the Secretary of State);

(b) 22 U.S.C. 3904 (Functions of the Foreign Service, including protection of U.S. citizens in foreign countries under the Vienna Convention on Consular Relations and providing assistance to other agencies);

(c) 8 U.S.C. 1401, 1408, and 1409 (Citizens and nationals of the United States by birth);

(d) 22 U.S.C. 1731 (Protection of naturalized U.S. citizens in foreign countries);

(e) 22 U.S.C. 211a et seq. (Passport application and issuance);

(f) 22 U.S.C. 2705 (Preparation of Consular Reports of Birth Abroad);

(g) 8 U.S.C. 1501-1504 (Adjudication of possible loss of nationality and cancellation of U.S. passports and CRBAs);

(h) 22 U.S.C. 2671(b)(2)(A)-(B) and (d) (Evacuation assistance and repatriation loans for destitute U.S. citizens abroad);

(i) 22 U.S.C. 2670(j) (Provision of emergency medical, dietary and other assistance);

(j) 22 U.S.C. 2151n-1 (Assistance to arrested citizens) (Repealed, but applicable to past records);

(k) 42 U.S.C. 1973ff-1973ff-6 (Overseas absentee voting);

(l) 42 U.S.C. 402 (Social Security benefits payments);

(m) Sec. 599C of Public Law 101-513, 104 Stat. 1979, as amended (Claims to benefits by virtue of hostage status) (Benefits ended, but applicable to past records);

(n) 50 U.S.C. App. 453, 454, Presidential Proclamation No. 4771, July 2, 1980 as amended by Presidential Proclamation 7275, February 22, 2000 (Selective Service registration);

(o) 22 U.S.C. 5501-5513 (Aviation disaster and security assistance abroad; mandatory availability of airline passengers manifest);

(p) 22 U.S.C. 4195, 4196 (Official notification of death of U.S. citizens in foreign countries; transmission of inventory of effects) (22 U.S.C. 4195 repealed, but applicable to past records);

(q) 22 U.S.C. 2715b (Notification of next of kin of death of U.S. citizens in foreign countries);

(r) 22 U.S.C. 4197 (Assistance with disposition of estates of U.S. citizens upon death in a foreign country);

(s) 22 U.S.C. 4193, 4194; 22 U.S.C. 4205-4207; 46 U.S.C. 10318 (Merchant seamen protection and relief);

(t) 22 U.S.C. 4193 (Receiving protests or declarations of U.S. citizen passengers, merchants in foreign ports);

(u) 46 U.S.C. 10701-10705 (Responsibility for deceased seamen and their effects);

(v) 22 U.S.C. 2715a (Responsibility to inform victims and their families regarding crimes against U.S. citizens abroad);

(w) 22 U.S.C. 4215, 4221 (Administration of oaths, affidavits, and other notarial acts);

(x) 28 U.S.C. 1740, 1741 (Authentication of documents);

(y) 28 U.S.C. 1781-1785 (Judicial Assistance to U.S. and foreign courts and litigants);

(z) 42 U.S.C. 14901-14954; Intercountry Adoption Act of 2000, (Assistance with intercountry adoptions under the Hague Intercountry Adoption Convention, maintenance of related records);

(aa) 22 U.S.C. 9001-9011, International Child Abduction Remedies Act (Assistance to applicants in the location and return of children wrongfully removed or retained or for securing effective exercise of rights of access);

(bb) 22 U.S.C. 9101, 9111-9114, 9121-9125, 9141, International Child Abduction Prevention and Return Act of 2014 (Reporting requirements, prevention measures, and other assistance on international parental child abduction cases); and

(cc) 22 U.S.C. 4802 (overseas evacuations).

PURPOSE:

The information in the Overseas Citizens Services Records and Other Overseas Records System is used primarily in the adjudication of claims relating to acquisition or loss of U.S. citizenship; the protection and assistance of individuals abroad, including death cases, evacuation and destitution cases, welfare and whereabouts cases, prisoner (including prisoner transfer) cases; arrest cases; assistance to minors, including children who may be victims of abuse, neglect or who are abandoned or runaways; assistance to individuals involved in child support enforcement proceedings; persons collecting federal benefits overseas; and the resolution of property, estate, and benefits claims arising under the pertinent statutes; assistance to individuals involved in international adoption cases and in possible or actual international child custody disputes and/or international parental child abduction cases, including the fulfillment of the Department's obligations and duties as the United States Central Authority under the Hague Adoption and Abduction Conventions and related authorities; oversight of accredited and approved adoption service providers and the designated accrediting entities of adoption service providers.

ROUTINE USES FOR RECORDS MAINTAINED IN THE SYSTEM, INCLUDING CATEGORIES OF USERS AND PURPOSES OF SUCH USES:

The information in Overseas Citizens Services Records and Other Overseas Records may be shared with:

A. The Social Security Administration, Office of Personnel Management, Department of Veterans Affairs, Railroad Retirement Board, Department of Labor, and Department of the Treasury in connection with administration of U.S. federal benefits to persons living abroad;

B. The Federal Aviation Administration and National Transportation Safety Board in connection with individuals traveling abroad and aviation accidents;

C. The Department of Commerce, U.S. Maritime Administration, and U.S. Coast Guard in connection with international commerce, shipping, and seamen;

D. The Department of Health and Human Services, U.S. Public Health Service, and Centers for Disease Control in connection with international travel and public health issues;

E. The Department of Health and Human Services, and its contractors/designees, in connection with repatriation of individuals abroad;

F. The Department of Justice and the Drug Enforcement Administration in connection with the arrest or detention of individuals overseas, prisoner transfer agreements, and in connection with reporting to the National Instant Criminal Background Check System (NICS);

G. The Federal Bureau of Investigation's Office for Victim Assistance in connection with assisting victims of crime;

H. The Foreign Claims Settlement Commission in connection with the adjudication of claims of individuals against foreign governments;

I. The Selective Service in connection with Armed Services registration requirements of individuals;

J. The Department of Defense, Department of Homeland Security, Department of Justice, and the Secret Service in connection with coordinating evacuations abroad;

K. The Department of Homeland Security in connection with intercountry adoptions and in connection with processing of immigration and naturalization matters;

L. The Department of Health and Human Services in connection with child support enforcement;

M. The Internal Revenue Service for the current addresses of specifically identified taxpayers in connection with pending actions to collect taxes accrued, examinations, and/or other related tax activities, and for the names and current location of taxpayers who are held hostage abroad;

N. Federal, state, and foreign courts in connection with litigation and related matters, such as inquiries regarding child custody orders;

O. Foreign and domestic airlines in connection with assisting individuals in emergency situations, including those involving aviation disasters, individuals who may pose a threat to themselves or others, and international child abduction;

P. Funeral homes in connection with the death abroad of individuals;

Q. Shipping companies when the information is maintained pursuant to the Department's responsibilities under Titles 22 and 46 of the U.S. Code;

R. Private “wardens” or “consular liasions” designated by U.S. embassies and U.S. consulates and further defined by 7 FAM 070 Warden Systems, to serve as channels of communication with other individuals in the local community, to prepare for and assist with evacuations, disasters, and other emergency situations;

S. Foreign-based organizations of private U.S. citizens to assist individuals in evacuations and other emergency situations;

T. Foreign and U.S. nongovernmental organizations, including disaster or emergency relief organizations such as the International Red Cross and Red Crescent and others, and the media and relevant Web sites, that maintain lists of individuals who are known to be found safe from and/or are reported missing as a result of a natural or other disaster, including political upheaval, abroad;

U. Foreign governments, embassies and consulates when the information is requested or provided pursuant to customary international practice, including in compliance with consular notification and access issues under the Vienna Convention on Consular Relations and other matters related to detention and/or arrest by the foreign government, or to assist individuals in evacuations and other emergency situations;

V. INTERPOL and other domestic, international, and foreign law enforcement agencies in connection with law enforcement issues and health, safety, welfare and related matters, including child adoption and abduction cases, custody disputes and notification of next of kin;

W. U.S. state and local governments, including law enforcement agencies, prosecutors, judicial staff, guardians ad litem, departments of human services, licensing authorities, and child protective services agencies, in connection with law enforcement, health, safety, welfare and related matters, including child abduction and adoption cases, custody disputes, cases of runaways and abused or neglected children, and notification of next of kin;

X. U.S. departments, agencies and federal interagency bodies responsible for the recovery of, and investigation and prosecution of cases involving individuals taken hostage, kidnapped for ransom, or detained abroad, when the detention is covered by Executive Order 13698, issued on June 24, 2015;

Y. Family members when the subject of the record is unable or unavailable to sign a waiver and is involved in an emergency situation, and the release is for the benefit of the subject;

Z. To the subject of a welfare/whereabouts inquiry, where the inquirer requests that the Department provide information to the subject for purpose of establishing contact or passing a message;

aa. Members of Congress when the information is requested on behalf of a family member of the individual to whom access is authorized under routine use Y;

bb. Third-parties designated by a family member of the individual to whom disclosure is authorized under routine use Y in cases of individuals taken hostage, kidnapped for ransom, or detained abroad, when the detention is covered by Executive Order 13698, issued on June 24, 2015, or when there is an open U.S. law enforcement investigation under 18 U.S.C. 1203 related to a missing U.S. citizen overseas;

cc. Attorneys when the individual to whom the information pertains is the client of the attorney making the request, or when the attorney is acting on behalf of some other individual to whom access is authorized under this notice;

dd. With respect to international adoption and abduction cases, records may be shared with: (i) Individuals and entities identified by state governments to assist in intercountry adoption and abduction cases, including adoption service providers, Bar Associations and legal aid services; (ii) biological and adoptive parents, guardians, and children involved in intercountry adoption and abduction cases;

ee. With respect to international abduction cases, records may be shared with: (i) The National Center for Missing and Exploited Children; (ii) central and public authorities of, and bodies duly accredited in, member and nonmember countries of the Hague International Child Abduction Convention in connection with specific child abduction cases and systemic issues; (iii) members of the International Hague Network of Judges; and (iv) prospective attorneys pursuant to a request for legal assistance; and

ff. With respect to international adoption cases, records may be shared with: (i) Central authorities of, and bodies duly accredited in, State Parties to the Hague Intercountry Adoption Convention (IAA), and any other relevant competent authority that has jurisdiction and authority to make decision in matters of child welfare including adoption in a foreign State; (ii) organizations designated by the Department of State as Accrediting Entities in accordance with the IAA in connection with accreditation or approval or monitoring of adoption service providers; and (iii) adoption service providers in connection with the health, safety and welfare of participants in intercountry adoptions, diplomatic inquiries regarding compliance with the Hague Intercountry Adoption Convention and Complaint Registry related matters. This information may also be released on a need-to-know basis to other government agencies having statutory or other lawful authority to maintain such information.

The routine uses for Passport Records, STATE-26, apply to applications for passports and registration as U.S. citizens, Consular Reports of Birth Abroad, Certificates of Loss of Nationality of the United States, Reports of Death, and related documentation.

The Department of State periodically publishes in the Federal Register its Prefatory Statement of Routine Uses which applies to all of its Privacy Act systems of records. These standard routine uses apply to Overseas Citizens Services Records and Other Overseas Records, State-05.

POLICIES AND PRACTICES FOR STORING, RETRIEVING, ACCESSING, RETAINING AND DISPOSING OF RECORDS IN THE SYSTEM:

STORAGE:

Electronic media, hard copy.

RETRIEVABILITY:

By individual name, birth date, or passport number, or other personal identifier if available.

SAFEGUARDS:

All users are given cyber security awareness training which covers the procedures for handling Sensitive but Unclassified information, including personally identifiable information (PII). Annual refresher training is mandatory. In addition, all Foreign Service and Civil Service employees and those Locally Engaged Staff who handle PII are required to take the FSI distance learning course instructing employees on privacy and security requirements, including the rules of behavior for handling PII and the potential consequences if it is handled improperly. Before being granted access to Overseas Citizen Services Records and Other Overseas Records, a user must first be granted access to the Department of State computer system.

Remote access to the Department of State network from non-Department owned systems is authorized only to unclassified systems and through a Department approved access program. Remote access to the network is configured with the Office of Management and Budget Memorandum M-07-16 security requirements which include but are not limited to two-factor authentication and time out function.

All Department of State employees and contractors with authorized access have undergone a thorough background security investigation. Access to the Department of State, its annexes and posts abroad is controlled by security guards and admission is limited to those individuals possessing a valid identification card or individuals under proper escort. All paper records containing personal information are maintained in secured file cabinets in restricted areas, access to which is limited to authorized personnel only. Access to computerized files is password-protected and under the direct supervision of the system manager. The system manager has the capability of printing audit trails of access from the computer media, thereby permitting regular and ad hoc monitoring of computer usage.

When it is determined that a user no longer needs access, the user account is disabled.

RETENTION AND DISPOSAL:

Records are retired in accordance with published Department of State Records Disposition Schedules as approved by the National Archives and Records Administration (NARA). More specific information may be obtained by writing to the Director; Office of Information Programs and Services, A/GIS/IPS; SA-2, Department of State; 515 22nd Street NW., Washington, DC 20522-8100.

SYSTEM MANAGER AND ADDRESS:

Deputy Assistant Secretary for Overseas Citizens Services; SA-17, 10th Floor, Washington, DC 20522-1710. At overseas locations, the onsite system manager is the Chief of the Consular Section or another State Department employee with responsibility for consular services as provided by the post in question.

NOTIFICATION PROCEDURES:

Individuals who have cause to believe that the Bureau of Consular Affairs may have records pertaining to him or her should write to the Director; Office of Information Programs and Services, A/GIS/IPS; SA-2, Department of State; 515 22nd Street NW., Washington, DC 20522-8100. The individual must specify that he/she wishes the records of the Bureau of Consular Affairs to be checked. At a minimum, the individual must include: name; date and place of birth; current mailing address and zip code; signature; and other information helpful in identifying the record.

RECORD ACCESS AND AMENDMENT PROCEDURES:

Individuals who have cause to believe that the Bureau of Consular Affairs have records pertaining to him or her should write to the Director; Office of Information Programs and Services, A/GIS/IPS; SA-2, Department of State; 515 22nd Street NW., Washington, DC 20522-8100. The individual must specify that he or she wishes the records of the Bureau of Consular Affairs to be checked. At a minimum, the individual must include: name; date and place of birth; current mailing address and zip code; notarized signature or statement under penalty of perjury; a brief description of the circumstances that caused the creation of the record (including the city and/or country and the approximate dates) which gives the individual cause to believe that the Bureau of Consular Affairs has records pertaining to him or her. In accord with E.O. 9397, providing a Social Security number is optional, but may assist the Department in locating relevant records. [A request to search Overseas Citizens Services Records and Other Overseas Records, STATE-05, will be directed to contact the Passport Office, when it pertains to passport, registration, citizenship, birth or death records, and any records transferred from STATE-05 to STATE-26.] Individuals who wish to gain access to or to amend records pertaining to themselves should write to the Director, Office of Information Programs and Services (address above).

CONTESTING RECORD PROCEDURES:

(See above).

RECORD SOURCE CATEGORIES:

These records contain information that is primarily obtained from the individual who is the subject of the records. Information may also be obtained from federal, state, local and foreign government entities and nongovernmental authorities in accordance with a routine use.

SYSTEM EXEMPTED FROM CERTAIN PROVISIONS OF THE ACT:

Pursuant to 5 U.S.C. 552a (k)(1), (k)(2), (k)(3), k(4), and (k)(5), certain records contained within this system of records may be exempt from subsections 5 U.S.C. 552a(c)(3), (d), (e)(1), (e)(4)(G), (e)(4)(H), (e)(4)(I) and (f).

[FR Doc. 2016-21645 Filed 9-7-16; 8:45 am]

BILLING CODE 4710-06-P